DEPARTMENT OF HEALTH AND HUMAN SERVICES

Health Resources and Services Administration

Updates to the Uniform Standard for Waiver of the Ryan White HIV/AIDS Program Core Medical Services Expenditure

AGENCY: Health Resources and Services Administration (HRSA), Department of Health and Human Services.

ACTION: Request for public comment on updates to uniform standard for waiver of the Ryan White HIV/AIDS Program core medical services expenditure requirement.

SUMMARY: The Ryan White HIV/AIDS Program (RWHAP) statute of the Public Health Service Act requires that RWHAP Parts A, B, and C recipients expend 75 percent of Parts A, B, and C grant funds on core medical services for individuals who are identified with HIV/AIDS and eligible for RWHAP services under the statute, after reserving statutorily permissible amounts for administrative and clinical quality management costs. The statute also grants the Secretary authority to waive this requirement if certain factors are met. HRSA is proposing to update Policy Notice 21-01, “Waiver of the Ryan White HIV/AIDS Program Core Medical Services Expenditure Requirement,” pertaining to the associated data collection form to clarify applicants' proposed allocation of resources between core medical and support services.

DATES: Submit comments no later than September 19, 2024.

ADDRESSES: Written/and or electronic comments should be submitted to Division of Policy and Data, HRSA, HIV/AIDS Bureau, 5600 Fishers Lane, Rockville, MD 20857, or RyanWhiteComments@hrsa.gov.

FOR FURTHER INFORMATION CONTACT: Kristina Barney, Senior Public Health Policy Analyst, Division of Policy and Data, HRSA, HIV/AIDS Bureau, 5600 Fishers Lane, Rockville, MD 20857, email RyanWhiteComments@hrsa.gov.

SUPPLEMENTARY INFORMATION: The RWHAP statute grants the Secretary authority to waive this requirement for RWHAP Parts A, B, or C recipients if certain factors are met and a waiver request is submitted to HRSA for approval. RWHAP Parts A, B, and C core medical services waiver requests, if approved, are effective for a 1-year budget period and apply to funds awarded under the Minority AIDS Initiative.

For a core medical services waiver request to be approved, core medical services must be available and accessible, regardless of the payment source, within 30 days to all RWHAP-eligible individuals identified in the recipient's service area. The recipient may use existing, non-RWHAP resources in the service area to ensure availability and access to core medical services. Additionally, there must be no AIDS Drug Assistance Program waiting lists in the recipient's service area. Finally, a public process must be used to obtain input from impacted communities on the availability of core medical services and the decision to request the waiver. Impacted communities include clients and RWHAP-funded core medical services providers. The same method used to seek input on community needs as part of the annual priority setting and resource allocation, comprehensive planning, statewide coordinated statement of need, public planning, and/or needs assessment processes may be used to meet this requirement.

Policy Notice 21-01, “Waiver of the Ryan White HIV/AIDS Program Core Medical Services Expenditure Requirement,” outlines the requirements and includes the one-page “HRSA RWHAP Core Medical Services Waiver Request Attestation Form” that must be submitted to request a waiver.

HRSA proposes to modify Policy Notice 21-01 to reflect a new policy requiring that the proposed percentages of HIV service dollars allocated to core medical and support services be included on the waiver request form. This information will inform HRSA as to whether recipients are able to meet the statutory requirements found in sections 2604(c), 2612(b), and 2651(c) of the Public Health Service Act and will clarify what proposed portion of funds will be allocated to core medical and support services. In response to stakeholder feedback, minor changes will also be made to the policy notice. The current policy notice is accessible at the following link: https://ryanwhite.hrsa.gov/sites/default/files/ryanwhite/grants/pn-21-01-core-medical-services-waivers.pdf and the proposed revised policy notice is included in this announcement. This notice provides the opportunity for public comment before implementation. In a separate notice entitled, Ryan White HIV/AIDS Program Core Medical Services Waiver Form, OMB No. 0906-0065-Revision, 89 FR 122, 53110-12 (June 25, 2024), HRSA seeks comment on the changes to the data collection form associated with this proposed policy notice change.

Summary of Proposed Changes: Sections 2604(c), 2612(b), and 2651(c) of the Public Health Service Act require recipients to spend not less than 75 percent of funds on core medical services after reserving statutorily permissible amounts for administrative and clinical quality management costs. HRSA intends to add a requirement to include the proposed percentages of HIV service dollars allocated to core medical and support services. This proposed change will be included as a requirement on the Ryan White HIV/AIDS Program Core Medical Services Waiver Form and will be used to clarify what portion of HIV service dollars will be allocated to core medical and support services. The section of this notice entitled “Requesting a Waiver” contains a description of the new information that must be included on the waiver request form. Language and editorial changes have been made throughout.

The proposed change is in addition to the underlying requirements necessary to obtain a waiver: ensuring that the state AIDS Drug Assistance Program has no waiting lists, all core medical services are available and accessible within 30 days in the jurisdiction or service area, and that the recipient has used a public process to determine the need for a waiver. HRSA will consider public comment on these changes and intends for the policy to become effective on October 1, 2024.

Waiver of the Ryan White HIV/AIDS Program Core Medical Services Expenditure Requirement

Policy Notice 21-01(Revised 10/01/24) Replaces Policy Notice 13-07

Scope of Coverage

Health Resources and Services Administration (HRSA) HIV/AIDS Bureau Ryan White HIV/AIDS Program (RWHAP) Parts A, B, and C.

Purpose of Policy Notice

This Policy Notice provides the processes and requirements for RWHAP Parts A, B, and C recipients to request waivers of the statutory requirement regarding expenditure amounts for core medical services.

The revised policy notice describes a new requirement included on the RWHAP Core Medical Services Waiver Attestation Form. It also includes various editorial changes to respond to stakeholder feedback to make the form clearer. The revised policy is effective beginning on October 1, 2024.

Background

Recipients must spend at least 75 percent of grant funds on core medical services. See Title XXVI of the Public Health Service Act (the RWHAP legislation, Part A section 2604(c), Part B section 2612(b), and Part C section 2651(c)). Grant funds include Minority AIDS Initiative funding but exclude the amounts allowable by statute for administrative and clinical quality management costs. The Secretary can waive this requirement for a recipient if: (1) there are no waiting lists for the AIDS Drug Assistance Program (ADAP), (2) core medical services are available and accessible to all HRSA RWHAP eligible individuals in the recipient's service area, and (3) a public process must be used to obtain input on the waiver request. Approved RWHAP Part A, Part B, and Part C core medical services waivers are effective for one budget period of a grant award, which is 1 year.

Requirements

A HRSA RWHAP Parts A, B, or C recipient must meet the following requirements:

(1) Core medical services must be available and accessible, regardless of the payment source, within 30 days to all HRSA RWHAP eligible individuals identified in the recipient's service area. The recipient may use existing non-RWHAP resources in the service area to ensure availability and access to core medical services.

(2) There must be no ADAP waiting lists in the recipient's service area.

(3) There must be a public process to obtain input on the waiver request. This public process must seek input from impacted communities on the availability of core medical services and the decision to request the waiver. Impacted communities include clients and RWHAP-funded core medical services providers. The same method to seek input on community needs as part of the annual priority setting and resource allocation, comprehensive planning, statewide coordinated statement of need, public planning, and/or needs assessment processes may be used.

Requesting a Waiver

To request a waiver, the Chief Elected Official, Chief Executive Officer, or a designee of either must complete and submit the HRSA RWHAP Core Medical Services Waiver Request Attestation Form (attached below) to HRSA as specified by the deadlines and methods described below.

Update to the Waiver Request Form

The form must specify the percentages of HIV service dollars, including Minority AIDS Initiative funds, the recipient proposes to allocate to core medical and support services, if the waiver is approved. Signature indicates attestations for eligibility and the requirement of documentation upon request.

No other documentation is required to be submitted with the HRSA RWHAP Core Medical Services Waiver Request Attestation Form.

Submitting Waiver Requests

RWHAP Part A and RWHAP Part C waiver requests must be submitted as an attachment with the grant application or the mandatory non-competing continuation (NCC) progress report. Waiver requests do not count towards grant application or NCC progress report page limits.

RWHAP Part B recipients may submit a waiver request prior to the submission of a grant application, with the grant application or NCC progress report as an attachment or up to 4 months after the start of the budget period for which the waiver is requested.

RWHAP Part B recipients may request a waiver for the RWHAP Part B States/Territories Formula and ADAP Formula and ADAP Supplemental Awards (X07) and/or the RWHAP Part B States/Territories Supplemental Grant Program (X08). Recipients must request each waiver separately.

Methods for Submitting Waiver Requests

Waiver requests submitted with grant applications must be submitted through www.grants.gov. Waiver requests submitted with the mandatory NCC progress report must be submitted through the Electronic Handbooks.

Part B recipients planning to request a waiver before or after the submission of a grant application or NCC progress report must notify their project officer who will send a Request for Information through the Electronic Handbooks.

Waiver Review and Notification Process

HRSA will review waiver requests and notify recipients of its approval or denial within 4 weeks of receipt of the request.

Approved core medical services waivers are only effective for one budget period. Approved waivers are not required to be implemented, should circumstances change. Recipients must submit a new request(s) each budget period.

BILLING CODE 4165-15-P

Carole Johnson,
Administrator.

[FR Doc. 2024-18649 Filed 8-19-24; 8:45 am]

BILLING CODE 4165-15-C